LEGAL SERVICES CORPORATION

Sunshine Act Meetings

TIME AND DATE: The Legal Services Corporation (LSC) Board of Directors will hold a virtual meeting on Thursday, May 2, 2024. The meeting will commence at 4:30 p.m. Eastern Time, continuing until the conclusion of the Board's agenda.

PLACE: The meeting will be held virtually via Zoom.

STATUS: Closed to public observation.

A verbatim written transcript will be made of the closed session of the Board meeting. The transcript of any portions of the closed session falling within the relevant provisions of the Government in the Sunshine Act, 5 U.S.C. 552b(c)(2) and(c)(6) will not be available for public inspection. A copy of the General Counsel's certification that, in his opinion, the closing is authorized by law will be available upon request.

MATTERS TO BE CONSIDERED:

Closed Session

Matters to be discussed include approval of the meeting agenda; Management briefing; discussion on program review; and a proposal to convene in Executive Session without LSC Management present.

CONTACT PERSON FOR MORE INFORMATION: Jessica Wechter, Special Assistant to the President, at (202) 295-1626. Questions may also be sent by electronic mail to wechterj@lsc.gov.

Non-Confidential Meeting Materials: Non-confidential meeting materials will be made available in electronic format at least 24 hours in advance of the meeting on the LSC website, at https://www.lsc.gov/about-lsc/board-meeting-materials.

(Authority: 5 U.S.C. 552b.)

Dated: April 23, 2024.
Stefanie Davis,
Deputy General Counsel, Legal Services Corporation.

[FR Doc. 2024-09068 Filed 4-24-24; 11:15 am]

BILLING CODE 7050-01-P